DEPARTMENT OF THE INTERIOR

Fish and Wildlife Service

Sporting Conservation Council

AGENCY: Fish and Wildlife Service, Interior.

ACTION: Notice of meeting.

SUMMARY: This notice announces a meeting of the Sporting Conservation Council (Council). This meeting is designed to review wildlife conservation endeavors that benefit recreational hunting and wildlife resources and that encourage partnerships among the public, the sporting conservation community, wildlife conservation groups, and State and Federal governments. This meeting is open to the public, and will include a session for the public to comment.

DATES: We will hold the meeting on May 23, from 8:30 a.m. to 4:30 p.m. and on May 24, from 8:30 a.m. to 4:30 p.m. From 1 p.m. to 2 p.m. on May 23, we will host a public comment session.

ADDRESSES: On May 23, the meeting will be held in Room 5160 at the Department of the Interior, 1849 C Street, NW., Washington, DC 20240. On May 24, the meeting will be held in Room 108-A at the Department of Agriculture, 12th and Jefferson Drive, SW., Washington, DC 20250.

FOR FURTHER INFORMATION CONTACT: Phyllis T. Seitts, 9828 North 31st Avenue, Phoenix, Arizona 85051-2517; 602-906-5603 (phone); or Twinkle_Thompson-Seitts@blm.gov (e-mail).

SUPPLEMENTARY INFORMATION: The Secretary of the Interior established the Council in February 2006 (71 FR 11220, March 6, 2006). The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture signed an amended charter for the Council in June 2006 and July 2006, respectively. The revised charter states that the Council will provide advice and guidance to the Federal Government through the Department of the Interior and the Department of Agriculture.

The Council will hold a meeting on the dates shown in the DATES section at the address shown in the ADDRESSES section. The meeting will include a session for the public to comment.

Dated: April 25, 2007.
Phyllis T. Seitts,
Designated Federal Officer, Sporting Conservation Council.

[FR Doc. E7-8370 Filed 5-1-07; 8:45 am]

BILLING CODE 4310-55-P